DEPARTMENT OF JUSTICE

[OMB Number 1117-0053]

Agency Information Collection Activities; Proposed eCollection eComments Requested; Extension of a Previously Approved Collection; Leadership Engagement Survey (LES)

AGENCY: Drug Enforcement Administration (DEA), Department of Justice (DOJ).

ACTION: 60-Day notice.

SUMMARY: The Drug Enforcement Administration, Department of Justice, will be submitting the following information collection request to the Office of Management and Budget (OMB) for review and approval in accordance with the Paperwork Reduction Act of 1995.

DATES: Comments are encouraged and will be accepted for 60 days until December 6, 2024.

FOR FURTHER INFORMATION CONTACT: If you have additional comments especially on the estimated public burden or associated response time, suggestions, or need a copy of the proposed information collection instrument with instructions or additional information, please contact: Tammie Pugh, Section Chief, Research and Analysis Staff, Human Resources Division, DEA, Tammie.S.Pugh@dea.gov, 571-776-2496, 600 Army Navy Dr., Arlington, VA 22202.

SUPPLEMENTARY INFORMATION: Written comments and suggestions from the public and affected agencies concerning the proposed collection of information are encouraged. Your comments should address one or more of the following four points:

—Evaluate whether the proposed collection of information is necessary for the proper performance of the functions of the Bureau of Justice Statistics, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Abstract: The Leadership Engagement Survey (LES) is an internal, agency-wide survey which provides a way for employees, contractors, and TFOs to share honest feedback about their leaders and the organizational climate of their division. Survey responses are anonymous, and numerical results will only be shared in the aggregate and identifying information is removed from comments. Climate data provides valuable insight for action planning while the leadership results guide professional development.

Overview of This Information Collection

1. Type of Information Collection: Extension of a previously approved collection.

2. The Title of the Form/Collection: Leadership Engagement Survey.

3. The agency form number, if any, and the applicable component of the Department sponsoring the collection: N/A.

4. Affected public who will be asked or required to respond, as well as the obligation to respond: Federal Government/DEA employees, contractors, and TFOs working at the DEA are encouraged to respond. The obligation to respond is voluntary.

5. An estimate of the total number of respondents and the amount of time estimated for an average respondent to respond: The maximum numbers of potential respondents is 15,000, although the expected responses are estimated to be 5,000. The time per response is 20 minutes to complete the Leadership Engagement Survey.

6. An estimate of the total annual burden (in hours) associated with the collection: The total annual burden hours for this collection is approximately 1,650 hours, assuming 5,000 respondents at 20 minutes for each response.

7. An estimate of the total annual cost burden associated with the collection, if applicable: There is no cost to continue the survey since it is already fully developed and runs on an internal platform accessible only to DEA employees.

Total Burden Hours
Activity | Number of respondents | Frequency | Total annual responses | Time per response | Total annual burden (hours)
Survey respondents | 5000 | 1/annually | 5000 | 20 | 1650

If additional information is required contact: Darwin Arceo, Department Clearance Officer, United States Department of Justice, Justice Management Division, Policy and Planning Staff, Two Constitution Square, 145 N Street NE, 4W-218, Washington, DC.

Dated: October 1, 2024.
Darwin Arceo,
Department Clearance Officer for PRA, U.S. Department of Justice.

[FR Doc. 2024-23031 Filed 10-4-24; 8:45 am]

BILLING CODE 4410-09-P